DEPARTMENT OF ENERGY

Federal Energy Regulatory Commission

[Project No. 2322-071]

Brookfield White Pine Hydro, LLC; Notice of Amendment Application To Incorporate Interim Species Protection Plan Into the Project License and Soliciting Comments, Motions To Intervene, and Protests

Take notice that the following amendment application has been filed with the Commission and is available for public inspection:

a. Application Type: Amendment of License.

b. Project Nos: P-2322-071.

c. Date Filed: June 1, 2021.

d. Applicants: Brookfield White Pine Hydro, LLC.

e. Name of Projects: Shawmut Hydroelectric Project.

f. Locations: The project is located on the lower Kennebec River in Kennebec and Somerset Counties, Maine.

g. Filed Pursuant to: Federal Power Act, 16 U.S.C. 791a-825r.

h. Applicant Contact: Kelly Maloney, Licensing and Compliance Manager, Brookfield White Pine Hydro, LLC, 150 Main Street, Lewiston, ME 04240; telephone: (207) 755-5605.

i. FERC Contact: Marybeth Gay, (202) 502-6125, Marybeth.Gay@ferc.gov.

j. Deadline for filing comments, motions to intervene, and protests: September 20, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2322-071. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Brookfield White Pine Hydro, LLC, licensee for the Shawmut Hydroelectric Project (P-2322), requests Commission approval to amend the license for the project to incorporate the provisions of an Interim Species Protection Plan (Interim Plan) for Atlantic salmon. On May 19, 2016, the Commission approved an Interim Plan for the Shawmut, Lockwood (P-2574), and Weston (P-2325) Projects (May 2016 Order), which expired on December 31, 2019.

Under the proposed Interim Plan, the licensee would continue the protection measures for the Shawmut project contained in the expired Interim Plan, plus additional supplemental measures. The licensee also proposes to continue to implement the terms and conditions for the Shawmut project contained in the expired Incidental Take Statement and Biological Opinion, until such time as the Commission issues a decision on the relicense application.

In addition, the licensee requests the Commission remove the requirement for the construction of an upstream fishway at the Shawmut Project, as required under the current license term pursuant to the May 2016 Order. In a letter issued July 13, 2020, Commission staff determined that construction of the proposed fish lift should be considered in the relicensing proceeding.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: August 19, 2021.
Kimberly D. Bose,
Secretary.

[FR Doc. 2021-18284 Filed 8-24-21; 8:45 am]

BILLING CODE 6717-01-P